DEPARTMENT OF STATE

[Public Notice 3937]

Notice of Proposal to Extend U.S.-Mali Agreement

AGENCY: Department of State.

ACTION: Notice.

Pursuant to the authority vested in me under Department of State Delegation of Authority No. 236-3, and pursuant to 19 U.S.C. 2602(f)(1), I hereby propose extension of the Agreement between the Government of the United States of America and the Government of the Republic of Mali Concerning the Imposition of Import Restrictions on Archaeological Material from the Region of the Niger River Valley and the Bandiagara Escarpment, signed on September 19, 1997. Pursuant to 19 U.S.C. 2602(f)(2), the views and recommendations of the Cultural Property Advisory Committee will be requested.

A copy of this Memorandum of Understanding, the designated list of restricted categories of material, and related information can be found at the following web site: http://exchanges.state.gov/education/culprop.

Dated: February 26, 2002.
Patricia S. Harrison,
Assistant Secretary for Educational and Cultural Affairs, Department of State.

[FR Doc. 02-5204 Filed 3-4-02; 8:45 am]

BILLING CODE 4710-11-P